ENVIRONMENTAL PROTECTION AGENCY

[EPA-HQ-OPP-2014-0748; FRL-9917-58]

Agricultural Pesticide Spray Drift Reduction Technologies Voluntary Program

AGENCY: Environmental Protection Agency (EPA).

ACTION: Notice.

SUMMARY: EPA's Office of Pesticides Programs (OPP) is announcing a voluntary program to document the effectiveness of agricultural pesticide spray application technologies on reducing pesticide spray drift. Under the Drift Reduction Technology (DRT) Program, agricultural equipment manufacturers would conduct (or make arrangements for a testing facility to conduct) studies to determine the percent drift reduction according to a verification protocol. Once completed, the manufacturer would submit the study to EPA for review and evaluation. As verified, these reductions could then be quantitatively credited in the environmental risk assessments used to develop the drift reduction measures appearing on the label of the pesticide product.

FOR FURTHER INFORMATION CONTACT: Jay Ellenberger, Field and External Affairs Division (7506P), Office of Pesticide Programs, Environmental Protection Agency, 1200 Pennsylvania Ave. NW., Washington, DC 20460-0001; telephone number: (703) 305-7099; email address: ellenberger.jay@epa.gov.

SUPPLEMENTARY INFORMATION:

I. General Information

A. Does this action apply to me?

You may be potentially affected by this action if you are a pesticide application equipment manufacturer, chemical manufacturer, pesticide registrant, university researcher, or have an interest in reducing spray drift. The following list of North American Industrial Classification System (NAICS) codes is not intended to be exhaustive, but rather provides a guide to help readers determine whether this document applies to them. Potentially affected entities may include:

• Crop production (NAICS code 111).

• Producers of pesticide products (NAICS code 32532).

• Research and development in the physical, engineering, and life sciences (NAICS code 541710).

• Colleges, universities, and professional schools (NAICS code 611310).

B. How can I get copies of this document and other related information?

The docket for this action, identified by docket identification (ID) number EPA-HQ-OPP-2014-0748, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

A. What is the Drift Reduction Technology Program?

Since 2006, EPA has worked collaboratively with other government agencies, industry, and academia to develop a verification protocol for quantitating the percent drift reduction for a particular application technology. With this notice, EPA is announcing a voluntary program based on this verification protocol to promote the use of technologies that have demonstrated their effectiveness in reducing the drift of agricultural pesticide spray application technologies. The benefits of this voluntary program include reduced loss of pesticide from site of application, more deposition of the applied pesticide on the crop, improved pesticide product efficacy, reduced costs to applicators and growers, and reductions in overall risks.

EPA believes there are application technologies that have the potential to significantly reduce the amount of spray drift. Studies conducted to measure spray drift reduction would verify the percent reduction achieved, and thus identify these technologies. As manufacturers become aware of the DRT Program and begin to complete verification studies of their technologies (in accordance with the verification protocol), the manufacturer would submit the test data to OPP for evaluation. OPP will evaluate each data submission and, as appropriate, assign a DRT rating to the specific technology (e.g., a nozzle) based on the technology's spray drift characteristics as compared to those of a standard set of nozzles. OPP will then post on its Web site (http://www2.epa.gov/reducing-pesticide-drift) the identification of the manufacturer, its validated technology, and the EPA-assigned DRT rating.

Using the information on the OPP's Web site, pesticide registrants then have the option of submitting a draft label for review which would include draft application instructions using DRT-rated technology on their product labels. As part of the label approval process, EPA would consider the rating category, (along with the appropriate drift reduction factor), in its risk assessment and risk management decisions. As appropriate, the approved label would contain application instructions for use of non-DRT-rated equipment as well as one or more categories of DRT-rated equipment. The applicator would read the label and also refer to OPP's Web site to identify verified DRTs whose use could be compatible with their application and then follow the label directions for the DRT-rated technology selected for use.

Use of DRT technologies offers the potential for fewer/reduced application restrictions needed to mitigate spray drift from the intended application site(s); application of more of the spray on the target site or crop which can improve efficacy; a potential reduction in the associated potential risks from spray drift; and a reduction in costs to the applicator and grower (reduced potential for insurance claims and enforcement penalties). Thus, applicators and growers will have incentives to use these drift reduction technologies. As applicators and growers use DRTs on a more routine basis, benefits will accrue. Less pesticide loss to non-target sites means more of the applied pesticides are deposited on the intended sites. This may result in improved pesticide application efficacy, reduced costs to applicators and growers, and reductions in overall risks.

This is a voluntary program: No one is required to participate. Detailed information about the voluntary DRT Program, including approval by the Office of Management and Budget to collect this information, is available on OPP's Web site. EPA will accept DRT studies for review and evaluation immediately.

B. What is Pesticide Drift and why is DRT important?

For the purpose of this notice pesticide spray drift is defined as the physical movement of a pesticide through the air at the time of application or soon thereafter from the target site to any non- or off-target site. This does not include pesticide movements by erosion, migration, volatility, or windblown soil particles after application. Spray drift is dependent on the design of application equipment, size of spray droplets, weather conditions, and other factors.

Today, there is increased sensitivity to spray drift due to increased suburban development in agricultural areas, and protection of endangered species. Spray drift management is of interest to pesticide and other chemical manufacturers, application equipment manufacturers, pesticide applicators, government agencies, advocacy groups, and the public. Generally, applications of most if not all sprays result in some amount of drift. It is not possible to completely eliminate drift.

C. Description of the DRT Program

The following is an outline of the DRT Program:

• Agricultural equipment manufacturers contract with a testing facility (or use their own facility) to test their technology using the verification protocol.

• Manufacturers then submit studies to OPP for review and evaluation.

• OPP verifies the adequacy of the study and determines the potential for the technology to reduce drift compared to a reference.

• OPP assigns a `star' rating to the technology.

• Rating is posted on OPP's Web site.

• Pesticide registrant submits a proposed label that offers an alternative application process that specifies the use of a DRT with `star' rating.

• OPP evaluates the proposed label and conducts the environmental risk assessment using assumptions appropriate for the `star' rating/application technology.

• If appropriate, OPP may also approve the label with two sets of application restrictions: One set of restrictions if the product is applied without DRT and another set of restrictions if the product is applied with a DRT.

D. What is a `Star' rating?

As appropriate, each verified technology is assigned to one of four drift reduction categories represented by stars:

• Less than 25% reduction = No DRT rating.

• 25 to 49% reduction = DRT* rating.

• 50 to 74% reduction = DRT** rating.

• 75 to 89% reduction = DRT*** rating.

• Equal to or greater than 90% reduction = DRT**** rating.

E. Benefits of the Voluntary DRT Program

Use of verified DRTs in the application of pesticides has the potential for significant benefits.

1. Benefits to growers and applicators would include:

• Substantiated, accepted performance claims of the verified technologies.

• Greater deposition of applied pesticides on the target sites/crops which may result in improved efficacy of pest or weed control.

• With greater on-target deposition, potential reductions in application rates with a commensurate reduction in application costs.

• Reduction of the currently estimated application restrictions for preventing adverse effects (e.g., smaller or no buffer zones).

• Applications can be made with increased flexibility in application timing and options potentially saving applicators time and costs: This means applications under a wider range of environmental and application method conditions.

• Reduced spray drift resulting in fewer incidents of adverse effects: This means fewer claims of violations of pesticide labeling requirements that need to be investigated by enforcement authorities, reduction in enforcement violation penalties, and less litigation and associated costs, including insurance claim costs.

2. Benefits to manufacturers and pesticide registrants would include:

• Increased demand for DRT-rated equipment and pesticide products offering the option of DRT application methods on the label as applicators and growers use DRTs on a more routine basis.

3. Benefits to the public and the environment would include:

• Fewer incidents of adverse effects from spray drift to humans, and terrestrial and aquatic organisms and ecosystems, including threatened or endangered species.

F. Next Steps

Once the submitted DRT studies have been reviewed and evaluated by OPP, and the results are posted on the Agency's Web site, then pesticide registrants have the option of amending their label to include DRT-rated application methods. This requires the submission of a complete application including a Pesticide Registration Improvement Act (PRIA) fee, or request for waiver or reduction. OPP will complete its review of the amendment according to the PRIA timeframe.

Authority: 7 U.S.C. 136 et seq.

Dated: October 8, 2014.
Jack E. Housenger,
Director, Office of Pesticide Programs.

[FR Doc. 2014-24525 Filed 10-14-14; 8:45 am]

BILLING CODE 6560-50-P